DEPARTMENT OF JUSTICE

Federal Bureau of Investigation

Agency Information Collection Activities: Proposed Collection; Comment Requested

ACTION: Notice of information collection under review; Extension of a currently approved collection; Hate Crime Incident Report and Quarterly Hate Crime Report.

Office of Management and Budget (OMB) approval is being sought for the information collection listed below. This proposed information collection was previously published in the Federal Register on May 26, 2000, allowing for a 60-day public comment period.

The purpose of this notice is to allow an additional 30 days for public comment until August 31, 2000. This process is conducted in accordance with 5 CFR 1320.10. Written comments and/or suggestions regarding the item(s) contained in this notice, especially regarding the estimated public burden and associated response time, should be directed to the Office of Management and Budget, Office of Information and Regulatory Affairs, Attention: Department of Justice Desk Officer, Washington, DC 20503. Additionally, comments may be submitted to OMB via facsimile to 202-395-7285. Comments may also be submitted to the Department of Justice (DOJ), Justice Management Division, Information Management and Security Staff, Attention: Department Clearance Officer, Suite 1221, National Place Building, 1331 Pennsylvania Ave., NW, Washington, DC 20530. Additionally, comments may be submitted to DOJ via facsimile to (202) 514-1590.

Written comments and/or suggestions from the public and affected agencies concerning the proposed collection of information should address one or more of the following four points:

1. Evaluate whether the proposed collection of information is necessary for the proper performance of the function of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submission of responses.

Overview of This Information Collection

1. Type of information collection: Extension of Current Collection.

2. The title of the form/collection: Hate Crime Incident Report and Quarterly Hate Crime Report.

3. The agency form number, if any, and applicable component of the Department Sponsoring the collection. Form: 11-1; 11-2. Federal Bureau of Investigation, Department of Justice.

4. Affected public who will be asked or required to respond, as well as brief abstract. Primary: Local and State Law Enforcement Agencies. This collection will gather information necessary to monitor the bias motivation of selected criminal offenses. The resulting statistics are published annually.

5. The FBI UCR Program is currently reviewing its race and ethnicity data collection in compliance with the Office of Management and Budget's Revisions for the Standards for the Classification of Federal Data on Race and Ethnicity.

6. An estimate of the total number of respondents and the amount of time estimated for an average respondent to respond: 17,667 agencies with 106,002 responses (including zero reports); and with an average of 6 hours and 35 minutes annually devoted to compilation of data for this information collection.

7. An estimate of the total public burden (in hours) associated with both collections: 15,900 annually.

Public comments on this proposed information collection are strongly encouraged.

If additional information is required contract: Mr. Robert B. Briggs, Department Clearance Officer, U.S. Department of Justice, Information Management and Security Staff, Justice Management Division, Suite 1221, National Place Building, 1331 Pennsylvania Ave., NW, Washington, DC 20530.

Dated: July 27, 2000.
Robert B. Briggs,
Department Clearance Officer, Department of Justice.

[FR Doc. 00-19358 Filed 7-31-00; 8:45 am]

BILLING CODE 4410-02-M